ENVIRONMENTAL PROTECTION AGENCY

[EPA-HQ-OAR-2007-0563; FRL 9909-88-OEI]

Information Request Submitted to OMB for Review and Approval; Comment Request; National Volatile Organic Compound Emission Standards for Consumer Products (Renewal)

AGENCY: Environmental Protection Agency (EPA).

ACTION: Notice.

SUMMARY: The Environmental Protection Agency (EPA) has submitted an information collection request (ICR), National Volatile Organic Compound Emission Standards for Consumer Products (EPA ICR No. 1764.06, OMB Control No. 2060-0348), to the Office of Management and Budget (OMB) for review and approval in accordance with the Paperwork Reduction Act (44 U.S.C. 3501 et seq.). This is a proposed extension of the ICR, which is currently approved through April 30, 2014. Public comments were previously requested via the Federal Register (79 FR 3799) on January 23, 2014, during a 60-day comment period. This notice allows for an additional 30 days for public comment. A fuller description of the ICR is given below, including its estimated burden and cost to the public. An agency may not conduct or sponsor and a person is not required to respond to a collection of information unless it displays a currently valid OMB control number.

DATES: Additional comments may be submitted on or before May 27, 2014.

ADDRESSES: Submit your comments, referencing Docket ID Number EPA-HQ-OAR-2007-0563, to (1) EPA online using www.regulations.gov (our preferred method), by email: a-and-r-docket@epa.gov (include Docket ID Number EPA-HQ-OAR-2007-0563 in the subject line of the message), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change, including any personal information provided, unless the comment includes profanity, threats, information claimed to be Confidential Business Information (CBI) or other information whose disclosure is restricted by statute.

FOR FURTHER INFORMATION CONTACT: Ms. Kim Teal, Office of Air Quality Planning and Standards, Sector Policies and Programs Division, Mail Code D243-04, Research Triangle Park, North Carolina 27711; telephone number 919-541-5580; fax number 919-541-5450; email address: teal.kim@epa.gov.

SUPPLEMENTARY INFORMATION: Supporting documents which explain in detail the information that the EPA will be collecting are available in the public docket for this ICR. The telephone number for the Docket Center is 202-566-1744. The docket can be viewed online at www.regulations.gov or in person at the EPA Docket Center, William Jefferson Clinton Building West, Room 3334, 1301 Constitution Ave. NW., Washington, DC 20004. For additional information about EPA's public docket, visit http://www.epa.gov/dockets.

Abstract: The EPA is required under section 183(e) of the Clean Air Act (CAA) to regulate volatile organic compound emissions from the use of consumer and commercial products. Pursuant to CAA section 183(e)(3), the EPA published a list of consumer and commercial products and a schedule for their regulation (60 FR 15264). Consumer products were included on the list, and the standards are codified at 40 CFR part 59, subpart C. The information collection includes initial reports and periodic recordkeeping necessary for the EPA to ensure compliance with federal standards for volatile organic compounds in consumer products. Responses to the collection are mandatory under 40 CFR part 59, subpart C, National Volatile Organic Compound Emission Standards for Consumer Products. All information submitted to the EPA for which a claim of confidentiality is made will be safeguarded according to the agency's policies set forth in 40 CFR part 2, subpart B, Confidentiality of Business Information.

The ICR provides a detailed explanation of the agency's estimate, which is only briefly summarized here:

Form Numbers: None.

Respondents/affected entities: Manufacturers and importers of consumer products.

Respondent's obligation to respond: Mandatory under 40 CFR part 59, subpart C, “National Volatile Organic Compound Emission Standards for Consumer Products,” and provide assurance that the mandates of section 183(e) of the CAA are being achieved.

Estimated number of respondents: 732 total.

Frequency of response: On occasion.

Total estimated burden: 29,613 hours (per year). Burden is defined at 5 CFR 1320.03(b).

Total estimated cost: $1,364,069 (per year), which no capital or operation & maintenance costs.

Changes in the Estimates: There are no changes in the total estimated respondent burden compared with the ICR currently approved by OMB.

Dated: April 17, 2014.
Erin Collard,
Acting Director, Collection Strategies Division.

[FR Doc. 2014-09457 Filed 4-24-14; 8:45 am]

BILLING CODE 6560-50-P